DEPARTMENT OF COMMERCE

National Oceanic and Atmospheric Administration

RIN 0648-XA200

Atlantic Highly Migratory Species; Announcement of Billfish and Swordfish Catch Card Pilot Program for Puerto Rico

AGENCY: National Marine Fisheries Service (NMFS), National Oceanic and Atmospheric Administration (NOAA), Commerce.

ACTION: Notice; Announcement of Billfish and Swordfish Catch Card Pilot Program for Puerto Rico.

SUMMARY: Accurate information is vital to NMFS' efforts to manage highly migratory species (HMS). In an effort to improve the accuracy of recreational billfish and swordfish landings data, NMFS will pilot test a new catch card program in Puerto Rico in 2011. Recreational HMS Angling category, HMS Charter Headboat category, and General category (participating in a tournament) permit holders will be asked to affix a landings tag to all billfish and swordfish prior to removal from the vessel. Tags will be readily available at most fishing locations where billfish and swordfish are landed. In exchange for the tag, HMS recreational permit holders will be asked to fill out a catch card documenting their landing. If the pilot catch card program is successful, NMFS may consider long-term implementation in place of the current reporting system.

DATES: The voluntary HMS catch card pilot program will begin in Puerto Rico in March 2011.

ADDRESSES: Questions or comments can be submitted to Ron Salz, NMFS Office of Science and Technology, 1315 East West Highway, Silver Spring, MD 20910.

FOR FURTHER INFORMATION CONTACT: Ron Salz by phone at (301) 713-2328 or by e-mail at ron.salz@noaa.gov.

SUPPLEMENTARY INFORMATION: Accurate information is vital to NMFS' efforts to manage highly migratory species (HMS). The collection of catch and effort information for Atlantic HMS fulfills U.S. obligations to the International Commission for the Conservation of Atlantic Tunas (ICCAT) and provides the basis for stock assessments and management of these valuable species in U.S. territorial waters and international waters.

In an effort to improve the accuracy of recreational billfish and swordfish landings data as part of the Marine Recreational Information Program, NMFS will pilot test a new catch card program in Puerto Rico in 2011. The program will be implemented by the University of Puerto Rico at Mayaguez Sea Grant Program. Recreational HMS Angling category, HMS Charter Headboat category, and General category (participating in a tournament) permit holders will be asked to affix a landings tag to all billfish and swordfish prior to removal from the vessel. Tags will be readily available at most fishing locations where billfish and swordfish are landed. In exchange for the tag, HMS recreational permit holders will be asked to fill out a catch card documenting their landing. The success of this voluntary pilot program and the value of the information obtained will depend entirely on recreational fishing industry support or “buy-in.” Through educational outreach, HMS recreational permit holders will be encouraged to participate and provide their landings information. Marinas, tackle shops and other private businesses will be asked to serve as catch card reporting stations to assist in this effort. If the pilot catch card program is successful, NMFS may consider long-term implementation in place of the current reporting system.

The current mandatory reporting system and regulatory requirements will remain in effect, and anglers who report their billfish and swordfish landings through the voluntary catch card pilot program must also report their non-tournament landings through the online web-reporting portal at http://www.hmspermits.gov or by phone at 1-800-894-5528. Non-tournament landings reports are not considered complete unless a landings-specific confirmation number has been issued by NMFS.

Dated: February 4, 2011.
Margo Schulze-Haugen,
Acting Director, Office of Sustainable Fisheries, National Marine Fisheries Service.

[FR Doc. 2011-2899 Filed 2-8-11; 8:45 am]

BILLING CODE 3510-22-P